ENVIRONMENTAL PROTECTION AGENCY

[FRL-8280-7]

Science Advisory Board Staff Office; EPA Clean Air Scientific Advisory Committee (CASAC); CASAC Lead Review Panel; Notification of a Public Advisory Committee Meeting (Teleconference)

AGENCY: Environmental Protection Agency (EPA).

ACTION: Notice.

SUMMARY: The Environmental Protection Agency (EPA or Agency) Science Advisory Board (SAB) Staff Office announces a public teleconference of the Clean Air Scientific Advisory Committee (CASAC) Lead Review Panel (CASAC Panel) to review and approve the CASAC's draft letter to the EPA Administrator resulting from its February 6-7, 2007 meeting to conduct a peer review of the Draft Review of the National Ambient Air Quality Standards for Lead: Policy Assessment of Scientific and Technical Information (1st Draft Lead Staff Paper, December 2006) and a related draft technical support document, Lead Human Exposure and Health Risk Assessments and Ecological Risk Assessment for Selected Areas: Pilot Phase, Draft Technical Report (Draft Lead Exposure and Risk Assessments, December 2006).

DATES: The teleconference meeting will be held on Friday, March 9, 2007, from 1 to 5 p.m. (Eastern Time).

FOR FURTHER INFORMATION CONTACT: Any member of the public who wishes to obtain the teleconference call-in number and access code; submit a written or brief oral statement (three minutes or less); or receive further information concerning this teleconference meeting, must contact Mr. Fred Butterfield, Designated Federal Officer (DFO). Mr. Butterfield may be contacted at the EPA Science Advisory Board (1400F), U.S. Environmental Protection Agency, 1200 Pennsylvania Avenue, NW., Washington, DC 20460; or via telephone/voice mail: (202) 343-9994; fax: (202) 233-0643; or e-mail at: butterfield.fred@epa.gov. General information concerning the CASAC or the EPA SAB can be found on the EPA Web site at http://www.epa.gov/sab.

SUPPLEMENTARY INFORMATION: Background: The CASAC, which is comprised of seven members appointed by the EPA Administrator, was established under section 109(d)(2) of the Clean Air Act (CAA or Act) (42 U.S.C. 7409) as an independent scientific advisory committee. The CASAC provides advice, information and recommendations on the scientific and technical aspects of issues related to air quality criteria and NAAQS under sections 108 and 109 of the Act. The CASAC is chartered under the Federal Advisory Committee Act (FACA), as amended, 5 U.S.C., App. The CASAC Lead Review Panel consists of the seven CASAC members augmented by subject-matter-experts. The CASAC Panel provides advice and recommendations to EPA concerning lead in ambient air. The Panel complies with the provisions of FACA and all appropriate SAB Staff Office procedural policies.

Section 109(d)(1) of the CAA requires that the Agency periodically review and revise, as appropriate, the air quality criteria and the national ambient air quality standards (NAAQS) for the six “criteria” air pollutants, including Lead. On February 6-7, 2007, the CASAC Panel met in a public meeting in Durham, NC to conduct a peer review of the Agency's 1st Draft Lead Staff Paper and a related Draft Lead Exposure and Risk Assessments technical support document. The purpose of this public teleconference meeting is to review and approve the CASAC's draft letter to the Administrator resulting from its February 6-7 meeting.

Availability of Meeting Materials: A copy of the CASAC's draft letter to the Administrator, the draft agenda, and other materials for this CASAC teleconference will be posted on the SAB Web Site at http://www.epa.gov/sab/panels/casac_lead_review_panel.htm prior to the meeting.

Procedures for Providing Public Input: Interested members of the public may submit relevant written or oral information for the CASAC Lead Review Panel to consider during the advisory process. Oral Statements: In general, individuals or groups requesting an oral presentation at a public teleconference will be limited to three minutes per speaker, with no more than a total of 30 minutes for all speakers. Interested parties should contact Mr. Butterfield, CASAC DFO, in writing (preferably via e-mail), by March 2, 2007, at the contact information noted above, to be placed on the list of public speakers for this meeting. Written Statements: Written statements should be received in the SAB Staff Office by March 6, 2007, so that the information may be made available to the CASAC Panel for their consideration prior to this teleconference. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: February 16, 2007.
Anthony F. Maciorowski,
Deputy Director, EPA Science Advisory Board Staff Office.

[FR Doc. E7-3115 Filed 2-22-07; 8:45 am]

BILLING CODE 6560-50-P